DEPARTMENT OF THE INTERIOR

National Park Service

National Register of Historic Places; Notification of Pending Nominations

Nominations for the following properties being considered for listing in the National Register were received by the National Park Service before May 19, 2001. Pursuant to § 60.13 of 36 CFR Part 60 written comments concerning the significance of these properties under the National Register criteria for evaluation may be forwarded to the National Register, National Park Service, 1849 C St. NW., NC400, Washington, DC 20240. Written comments should be submitted by June 20, 2001.

Patrick W. Andrus,
Acting Keeper of the National Register of Historic Places.

ILLINOIS

Cook County

Oak Circle Historic District, 318-351 Oak Circle, Wilmette, 01000668

Winnebago County

Indian Hill Manor and Farm Historic District, 6901-7057 Kishwaukee Rd., Rockford, 01000667

LOUISIANA

St. Martin Parish

Katie Plantation House, (Louisiana's French Creole Architecture MPS), 1015 John D. Hebert Dr., Breaux Bridge, 01000669

MASSACHUSETTS

Hampden County

Agawam Center Historic District, 24-196 Elm St.; 551-1008 Main St., Agawam, 01000670

NEW JERSEY

Atlantic County

Weymouth Road Bridge, Weymouth Rd., Hamilton Township, 01000671

NEW YORK

Columbia County

Reformed Dutch Church of Claverack, (Claverack MPS), NY 9H, N of NY 23B, Claverack, 01000673

Delaware County

First Congregational Church and Society of Volney, (Freedom Trail, Abolitionism, and African American Life in Central New York MPS), NY 3, Volney, 01000675

Wyoming County

Java School No. 1, NY 78, Java Village, 01000672

NORTH CAROLINA

Guilford County

Guilford College Historic District (Boundary Decrease), 5800 Friendly Ave., Greensboro, 01000676

NORTH DAKOTA

Wells County

Vang Evangelical Lutheran Church, 200 W. LeGrand St., Manfred, 01000674

OREGON

Deschutes County

Old Town Historic District, Roughly bounded by Arizona Ave., Wall St., Broadway, Franklin Ave., and Division St., Bend, 01000681

PENNSYLVANIA

Bedford County

Schellsburg Historic District, Approx. centered on Pitt St., Market and Baltimore Sts., Schellsburg Borough, 01000677

Greene County

Cree, William, House, W side of PA 1011, 0.1 mi. N of PA 21, Jefferson Township, 01000678

SOUTH CAROLINA

Charleston County

Cook's Old Field Cemetery, 0.5 mi. N of Rifle Range Rd., Mt. Pleasant, 01000679

SOUTH DAKOTA

Custer County

Grace Coolidge Memorial Log Building, 644 Crook St., Custer, 01000680

[FR Doc. 01-14068 Filed 6-4-01; 8:45 am]

BILLING CODE 4310-70-P